NATIONAL AERONAUTICS AND SPACE ADMINISTRATION

[Notice: 21-071]

Information Collection: NASA Property in the Custodian of Contractors

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by December 2, 2021.

ADDRESSES: Written comments and recommendations for this information collection should be sent within 30 days of publication of this notice to www.reginfo.gov/public/do/PRAMain.

Find this particular information collection by selecting “Currently under 30-day Review—Open for Public Comments” or by using the search function.

FOR FURTHER INFORMATION CONTACT: Requests for additional information or copies of the information collection instrument(s) and instructions should be directed to Claire Little, NASA Clearance Officer, NASA Headquarters, 202-358-2375, 300 E Street SW, JF0000, Washington, DC 20546 or email claire.a.little@nasa.gov.

SUPPLEMENTARY INFORMATION:

I. Abstract

To ensure accurate reporting of Government-owned, contractor-held property on the financial statements and to provide information necessary for effective property management in accordance with FAR Part 45, NASA obtains summary data annually from the official Government property records maintained by its contractors. The information is submitted via the NASA Form 1018, at the end of each fiscal year. Additional information submitted to approve the accuracy of the contractor property management system compliance is submitted via NASA Form 1019, at the beginning of awards with NASA property in the hands of contractors; and same information gathered by Federal agencies assisting NASA according to risk matrix. Information for property management system in accordance with FAR Part 45, NASA is the agency responsible for contract administration shall conduct an analysis of the contractor's property management policies, procedures, practices, and systems.

II. Methods of Collection

Electronic.

III. Data

Title: NASA Property in the Custody of Contractors.

OMB Number: 2700-0017.

Type of review: Renewal of a previously approved information collection.

Affected Public: Business or other for-profit and not-for-profit institutions.

Estimated Annual Number of Activities: 1,200.

Estimated Number of Respondents per Activity: 1.

Annual Responses: 1,200.

Estimated Time per Response: 1.5 hours.

Estimated Total Annual Burden Hours: 1,800.

Estimated Total Annual Cost: $36,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Cheryl Parker,
Federal Register Liaison Officer.

[FR Doc. 2021-23850 Filed 11-1-21; 8:45 am]

BILLING CODE 7510-13-P